DEPARTMENT OF HEALTH AND HUMAN SERVICES

National Institutes of Health

Center for Scientific Review; Amended Notice of Meeting

Notice is hereby given of a change in the meeting of the Cancer Biomarkers Study Section, October 18, 2013, 08:00 a.m. to October 18, 2013, 06:00 p.m., Houston JW Marriott, 5150 Westheimer Road, Houston, TX 77056 which was published in the Federal Register on September 24, 2013, 78 FR Pgs. 58547-58548.

The meeting will start on December 16, 2013 at 8:00 a.m. and end on December 16, 2013 at 6:00 p.m. The meeting location remains the same. The meeting is closed to the public.

Dated: October 23, 2013.
David Clary,
Program Analyst, Office of Federal Advisory Committee Policy.

[FR Doc. 2013-25490 Filed 10-28-13; 8:45 am]

BILLING CODE 4140-01-P